RAILROAD RETIREMENT BOARD

Notice of Public Meeting; Sunshine Act

Notice is hereby given that April 22, 2009, 10 a.m., at the Board's meeting room on the 8th floor of its headquarters building, 844 North Rush Street, Chicago, Illinois, 60611. The agenda for this meeting follows:

(1) Executive Committee Reports.

(2) Personnel Changes in the Newark and New York City Offices (For Discussion Only).

(3) Briefing on the Long Island Implementation Plan Update.

The entire meeting will be open to the public. The person to contact for more information is Beatrice Ezerski, Secretary to the Board, Phone No. 312-751-4920.

Dated: April 13, 2009.
Beatrice Ezerski,
Secretary to the Board.

[FR Doc. E9-8820 Filed 4-17-09; 8:45 am]

BILLING CODE 7905-01-M